DEPARTMENT OF LABOR

Office of the Secretary

Submission for OMB Emergency Review: Comment Request

April 24, 2009.

The Department of Labor has submitted the following information collection request (ICR), utilizing emergency review procedures, to the Office of Management and Budget (OMB) for review and clearance in accordance with the Paperwork Reduction Act of 1995 (Pub. L. 104-13, 44 U.S.C. Chapter 35) and 5 CFR 1320.13. OMB approval has been requested by May 20, 2009. A copy of this ICR, with applicable supporting documentation; including, among other things, a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov. Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov. Comments and questions about the ICR listed below should be received by no later than the requested OMB approval date. An additional opportunity to comment on this ICR will also be provided when DOL seeks approval under standard PRA clearance procedures.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarify of the information to be collected; and

• Minimize the burden of the collection of information on those who are to respond, including through the use of appropriate automated, electronic, mechanical, or other technological collection techniques or other forms of information technology, e.g., permitting electronic submissions of responses.

AGENCY: Employment and Training Administration.

Title of Collection: Collecting Aggregate Participant Counts for Workforce Investment Act (WIA) Title IB, Wagner-Peyser Act, National Emergency Grants, and Reemployment Services Grants.

OMB Control Number: Pending.

Frequency of Collection: Monthly collection.

Affected Public: State Workforce Agencies.

Total Estimated Number of Respondents: 54.

Total Estimated Annual Burden Hours: 41,472 hours for monthly reports and 573,160 hours for quarterly WIASRD reports.

Description: The American Recovery and Reinvestment Act of 2009 (The Recovery Act) was signed into law by President Obama on February 17, 2009. To record the impact of the Recovery Act resources, more current information on participants and the services received is essential. Therefore, to obtain a more robust look at participants and services provided with the additional Recovery Act resources, the Employment and Training Administration (ETA) proposes supplemental reports. Under these new supplemental reports, States are required to submit information that States already collect; however, the supplemental reports are required to be submitted monthly.

• For WIA Adult, States will report aggregate counts of all participants, including those whose services are funded with regular WIA Adult formula funds and Recovery Act funds. States will report aggregate counts on those participants who are low-income, those receiving Temporary Assistance to Needy Families and other public assistance, the number of UI claimants, Veterans, and individuals with disabilities, numbers in training and type of training, and numbers receiving supportive services.

• For WIA Dislocated Workers, States will report aggregate counts of all participants, including those whose services are funded with regular WIA Dislocated Worker formula funds and Recovery Act funds. States will report the number of UI claimants, Veterans, and individuals with disabilities, numbers in training and type of training, and numbers receiving supportive services.

• For National Emergency Grants, financed with Recovery Act Funds Only, States will report aggregate counts of participants, including the number of UI claimants, Veterans, and individuals with disabilities, numbers in training and type of training, and numbers receiving supportive services.

• For WIA Youth, served with Recovery Act Funds Only, reporting will be slightly different. States will report aggregate counts of all Recovery Act youth participants, including the characteristics of participants, the numbers of participants in summer employment, services received, attainment of a work readiness skill, which is required in the Recovery Act, and completion of summer youth employment. States will also continue to submit the regular WIA quarterly and annual reports, including any youth who continue services under the WIA year-round youth program.

• For the Wagner-Peyser Act Employment Service, States will report on the number of participants served, number of Unemployment Insurance (UI) claimants served, and the type of services received. States will be required to submit supplemental reports of aggregate counts of all participants whose services are financed with regular Wagner-Peyser Act formula funds and Recovery Act funds (i.e., Employment Service and Reemployment Services).

• For the Wagner-Peyser Reemployment Services Grants, States will report on the same data elements that are collected for the Wagner-Peyser Act Employment Service report, with one additional data element: referral to training, including WIA-funded training.

In addition to these aggregate monthly reports, ETA proposes that States submit the WIA individual records (WIASRD) on all participants in the WIA title 1B programs, and in National Emergency Grants, on a quarterly basis, beginning with the 3rd quarter of Program Year 2009, which ends on March 31, 2010. The first deadline for the required quarterly submission will be May 15, 2010. This start date gives States sufficient time to adjust their management information systems.

Why are we requesting Emergency Processing? The supplemental reports and quarterly collection of WIA individual records allows ETA to overcome the limitations imposed by current outcome based performance reporting requirements. This collection comprises a participant and performance reporting strategy that will provide a more robust, “real time” view of the impact of the Recovery Act funds, providing greater information on levels of program participation, and provide more information about the characteristics of the participants served, and the types of services provided. The approval of this request is necessary to allow ETA to report performance accountability information immediately on the effective use of Recovery Act funds already received by State workforce agencies. With these monthly reports more detailed information on individuals will be available while they are participating in the programs. There is also significant value added by obtaining quarterly individual records from State workforce agencies. First, quarterly submissions provide more timely information to respond to the oversight needs of Governors, Congress and other Federal/State stakeholders and the general public. Second, ETA will benefit from more timely analysis and States will have access to more regular updates on nationwide participation information as well as employment and training trends.

Darrin A. King,
Departmental Clearance Officer.

[FR Doc. E9-9872 Filed 4-29-09; 8:45 am]

BILLING CODE 4510-FN-P